ENVIRONMENTAL PROTECTION AGENCY

[EPA-HQ-OAR-2022-0080; FR-10446-01-OMS]

Information Collection Request Submitted to OMB for Review and Approval; Comment Request; NESHAP for Magnetic Tape Manufacturing Operations (Renewal)

AGENCY: Environmental Protection Agency (EPA).

ACTION: Notice.

SUMMARY: The Environmental Protection Agency (EPA) has submitted an information collection request (ICR), NESHAP for Magnetic Tape Manufacturing Operations (EPA ICR Number 1678.11, OMB Control Nunber 2060-0326) to the Office of Management and Budget (OMB), for review and approval in accordance with the Paperwork Reduction Act. This is a proposed extension of the ICR, which is currently approved through January 31, 2023. Public comments were previously requested, via the Federal Register, on April 8, 2022 during a 60-day comment period. This notice allows for an additional 30 days for public comments. A fuller description of the ICR is given below, including its estimated burden and cost to the public. An agency may neither conduct nor sponsor, and a person is not required to respond to a collection of information, unless it displays a currently valid OMB control number.

DATES: Additional comments may be submitted on or before December 27, 2022.

ADDRESSES: Submit your comments, referencing Docket ID Number EPA-HQ-OAR-2022-0080, to EPA online using https://www.regulations.gov/ (our preferred method), or by email to docket@epa.gov, or by mail to: EPA Docket Center, Environmental Protection Agency, Mail Code 28221T, 1200 Pennsylvania Ave. NW, Washington, DC 20460. EPA's policy is that all comments received will be included in the public docket without change including any personal information provided, unless the comment includes profanity, threats, information claimed to be Confidential Business Information (CBI), or other information whose disclosure is restricted by statute.

Submit written comments and recommendations to OMB for the proposed information collection within 30 days of publication of this notice to www.reginfo.gov/public/do/PRAMain. Find this particular information collection by selecting “Currently under 30-day Review—Open for Public Comments” or by using the search function.

FOR FURTHER INFORMATION CONTACT: Muntasir Ali, Sector Policies and Program Division (D243-05), Office of Air Quality Planning and Standards, U.S. Environmental Protection Agency, Research Triangle Park, North Carolina, 27711; telephone number: (919) 541-0833; email address: ali.muntasir@epa.gov.

SUPPLEMENTARY INFORMATION: Supporting documents, which explain in detail the information that the EPA will be collecting, are available in the public docket for this ICR. The docket can be viewed online at https://www.regulations.gov, or in person, at the EPA Docket Center, WJC West Building, Room 3334, 1301 Constitution Ave. NW, Washington, DC. The telephone number for the Docket Center is 202-566-1744. For additional information about EPA's public docket, visit http://www.epa.gov/dockets.

Abstract: The National Emission Standards for Hazardous Air Pollutants (NESHAP) for Magnetic Tape Manufacturing Operations (40 CFR part 63, subpart EE) were proposed on March 11, 1994; promulgated on December 15, 1994; and amended on April 9, 1999. These regulations apply to existing and new magnetic tape manufacturing operations facilities, including solvent storage tanks, mix preparation equipment, coating operations, waste handling devices, and condenser vents associated with solvent recovery. New facilities include those that commenced either construction, modification, or reconstruction after the date of proposal. This information is being collected to assure compliance with 40 CFR part 63, subpart EE.

Form Numbers: None.

Respondents/affected entities: Existing and new magnetic tape manufacturing operations facilities, including solvent storage tanks, mix preparation equipment, coating operations, waste handling devices, and condenser vents associated with solvent recovery.

Respondent's obligation to respond: Mandatory (40 CFR part 63, subpart EE).

Estimated number of respondents: 3 (total).

Frequency of response: Initially, quarterly, and semiannually.

Total estimated burden: 2,240 hours (per year). Burden is defined at 5 CFR 1320.3(b).

Total estimated cost: $302,000 (per year), which includes $33,000 in annualized capital/startup and/or operation & maintenance costs.

Changes in the Estimates: There is decrease in the total estimated respondent burden compared with the ICR currently approved by OMB. The adjustment decrease in burden from the most recently approved ICR is due to a decrease in the number of sources. Based on a review of ECHO sources and consultations with the Agency's internal industry experts, three sources are identified to be subject to this rule. The previous ICR indicated four sources. The overall result is a decrease in burden and operation and maintenance costs. This ICR continues to assume that at least one existing source will construct a new line with enclosure each year, therefore, there is no change the capital costs estimated in the currently approved ICR.

Courtney Kerwin,
Director, Regulatory Support Division.

[FR Doc. 2022-25626 Filed 11-23-22; 8:45 am]

BILLING CODE 6560-50-P